DEPARTMENT OF TRANSPORTATION

Federal Aviation Administration

Second Meeting: RTCA Subcommittee 233 (SC 233)

AGENCY: Federal Aviation Administration (FAA), U.S. Department of Transportation (DOT).

ACTION: Second meeting notice of RTCA Subcommittee 233.

SUMMARY: The FAA is issuing this notice to advise the public of the second meeting of the RTCA Subcommittee 233.

DATES: The meeting will be held May 19th from 8:15 a.m.-5:00 p.m.; May 20th from 8:00 a.m.-5:30 p.m.; and May 21st from 8:00 a.m.-2:00 p.m.

ADDRESSES: The meetings will be held at Gulfstream Aerospace, 500 Gulfstream Road, Building Z, Savannah, GA 31408, Tel: (202) 330-0662.

FOR FURTHER INFORMATION CONTACT: The RTCA Secretariat, 1150 18th Street NW., Suite 910, Washington, DC 20036, or by telephone at (202) 833-9339, fax at (202) 833-9434, or Web site at http://www.rtca.org or Jennifer Iverson, Program Director, RTCA, Inc., jiversen@rtca.org, 202-697-0586.

SUPPLEMENTARY INFORMATION: Pursuant to section 10(a)(2) of the Federal Advisory Committee Act (Pub. L. 92-463, 5 U.S.C., App.), notice is hereby given for a meeting of the RTCA Subcommittee 233. The agenda will include the following:

Tuesday, May 19, 2015

1. Introduction, Upcoming PMC Dates, Minutes from Last Meeting

2. Review TOR

3. Ed Kolano—Seattle ACO, Flight Test Pilot Evaluations

4. Rotorcraft Directorate Test Pilot Evaluations

5. Bruce Mahone—SAE Related Documentation

6. Alan Jacobsen—SAE ARP 5056

7. Outline Discussion

8. Subcommittee Formation

9. Scope Discussion

10. Subcommittee Initial Breakout Session

11. Planning for Next Meeting

Wednesday, May 20, 2015

1. Subcommittee Breakout Sessions

2. Subcommittee Breakout Sessions

3. Subcommittee Outbrief

4. Factory Tour

Thursday, May 21, 2015

1. Leadership Team Wrap-up/Discussion on Outline Content

2. Subcommittee Assignments

3. Meeting Recap, Action Items, Key Dates

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 29, 2015.
Latasha Robinson,
Management & Program Analyst, NextGen, Program Oversight and Administration, Federal Aviation Administration.

[FR Doc. 2015-11042 Filed 5-6-15; 8:45 am]

BILLING CODE 4910-13-P